DEPARTMENT OF ENERGY

Federal Energy Regulatory Commission

Combined Notice of Filings #1

February 27, 2008.

Take notice that the Commission received the following electric corporate filings:

Docket Numbers: EC08-44-000.

Applicants: Birchwood Power Partners, L.P., J-POWER USA Investment Co., Ltd.

Description: Birchwood Power Partners, LP and J-Power USA Investment Co, Ltd submits application seeking authorization for the acquisition of a portion of the ownership interests in Birchwood etc.

Filed Date: 02/21/2008.

Accession Number: 20080225-0190.

Comment Date: 5 p.m. Eastern Time on Thursday, March 13, 2008.

Docket Numbers: EC08-45-000.

Applicants: Cinergy Capital & Trading, Inc., Brownsville Power I, LLC

Description: Cinergy Capital & Trading, Inc and Brownsville Power I, LLC submits an Application for Authorization for Disposition of Jurisdictional Assets.

Filed Date: 02/21/2008.

Accession Number: 20080225-0192.

Comment Date: 5 p.m. Eastern Time on Thursday, March 13, 2008.

Docket Numbers: EC08-46-000.

Applicants: Entergy Nuclear Generation Company, Entergy Nuclear FitzPatrick, LLC, Entergy Nuclear Vermont Yankee, LLC, Entergy Nuclear Indian Point 2, LLC, Entergy Nuclear Indian Point 3, LLC, Entergy Nuclear Palisades, LLC, Entergy Nuclear Power Marketing, LLC.

Description: Application under Section 203 of the Federal Power Act for authorization of indirect disposition of jurisdictional facilities and requests for waivers of Entergy Nuclear Generation Company et al.

Filed Date: 02/21/2008.

Accession Number: 20080225-0194.

Comment Date: 5 p.m. Eastern Time on Thursday, March 13, 2008.

Take notice that the Commission received the following electric rate filings:

Docket Numbers: ER99-2369-004.

Applicants: Alliance for Cooperative Energy Services.

Description: Alliance for Cooperative Energy Services Power Marketing LLC submits amendment to its market-based rate tariff to comply with Order 697.

Filed Date: 02/22/2008.

Accession Number: 20080226-0051.

Comment Date: 5 p.m. Eastern Time on Friday, March 14, 2008.

Docket Numbers: ER08-321-001.

Applicants: New York Independent System Operator, Inc.

Description: Public Submission of Pages of 12/10/07 Filing Previously Submitted Pursuant to a Claim of Privilege of New York Independent System Operator, Inc.

Filed Date: 02/22/2008.

Accession Number: 20080222-5044.

Comment Date: 5 p.m. Eastern Time on Friday, March 14, 2008.

Docket Numbers: ER08-397-001.

Applicants: ALLETE, Inc.

Description: ALLETE, Inc submits Original Sheet 7 of Rate Schedule 119 which was inadvertently omitted from the 2/8/08 filing.

Filed Date: 02/22/2008.

Accession Number: 20080226-0053.

Comment Date: 5 p.m. Eastern Time on Friday, March 14, 2008.

Docket Numbers: ER08-425-001.

Applicants: Energy Exchange Direct, LLC.

Description: Energy Exchange Direct, LLC submits an amended petition for acceptance of initial tariff etc.

Filed Date: 02/22/2008.

Accession Number: 20080226-0052.

Comment Date: 5 p.m. Eastern Time on Friday, March 14, 2008.

Docket Numbers: ER08-551-001.

Applicants: MidAmerican Energy Company.

Description: MidAmerican Energy Co submits the amended Engineering and Procurement Agreement to its 2/11/08 filing.

Filed Date: 02/22/2008.

Accession Number: 20080226-0054.

Comment Date: 5 p.m. Eastern Time on Friday, March 14, 2008.

Docket Numbers: ER08-590-000.

Applicants: PJM Interconnection, L.L.C.

Description: PJM Interconnection, LLC submits an executed Interim Interconnection Service Agreement with Luke Paper Co et al.

Filed Date: 02/22/2008.

Accession Number: 20080226-0055

Comment Date: 5 p.m. Eastern Time on Friday, March 14, 2008.

Docket Numbers: ER08-591-000.

Applicants: Wisconsin Public Service Corporation.

Description: Wisconsin Public Service Corp submits the actual 2007 value for billing for post-employment benefits.

Filed Date: 02/22/2008.

Accession Number: 20080226-0056.

Comment Date: 5 p.m. Eastern Time on Friday, March 14, 2008.

Docket Numbers: ER08-592-000.

Applicants: Midwest Independent Transmission System Operator, Inc.

Description: Midwest Independent Transmission System Operator, Inc submits proposed revisions to the Coordination Agreement with Manitoba Hydro.

Filed Date: 02/22/2008.

Accession Number: 20080226-0057.

Comment Date: 5 p.m. Eastern Time on Friday, March 14, 2008.

Docket Numbers: ER08-593-000.

Applicants: American Electric Power Service Corporation.

Description: American Electric Power Service Corp submits a fully executed interconnection agreement with Turkey Track Wind Energy LLC.

Filed Date: 02/22/2008.

Accession Number: 20080226-0058.

Comment Date: 5 p.m. Eastern Time on Friday, March 14, 2008.

Docket Numbers: ER08-594-000.

Applicants: Pacific Gas and Electric Company.

Description: Pacific Gas and Electric Co submits a Notice of Termination of the Agreement to Implement the Scheduling Coordinator Transition with the County of San Francisco.

Filed Date: 02/21/2008.

Accession Number: 20080226-0059.

Comment Date: 5 p.m. Eastern Time on Thursday, March 13, 2008.

Docket Numbers: ER08-595-000.

Applicants: Duke Energy Carolinas, LLC.

Description: Duke Energy Carolinas, LLC submits the long-term Transmission Service Agreement with the Carolina Power and Light Co.

Filed Date: 02/25/2008.

Accession Number: 20080227-0108.

Comment Date: 5 p.m. Eastern Time on Monday, March 17, 2008.

Docket Numbers: ER08-596-000.

Applicants: PJM Interconnection, L.L.C.

Description: PJM Interconnection, LLC submits amendments to Schedule 12 of the Amended and Restated Operating Agreement to update the member list.

Filed Date: 02/25/2008.

Accession Number: 20080227-0106.

Comment Date: 5 p.m. Eastern Time on Monday, March 17, 2008.

Docket Numbers: ER08-597-000.

Applicants: Commonwealth Edison Company.

Description: Commonwealth Edison Co submits an cancellation of the executed Interconnection Agreement 729.

Filed Date: 02/26/2008.

Accession Number: 20080227-0107.

Comment Date: 5 p.m. Eastern Time on Tuesday, March 18, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-4204 Filed 3-4-08; 8:45 am]

BILLING CODE 6717-01-P